DEPARTMENT OF ENERGY

Federal Energy Regulatory Commission

[Project No. 1267-108]

Greenwood County, South Carolina; Notice of Application Accepted for Filing, Soliciting Comments, Motions To Intervene, and Protests

Take notice that the following hydroelectric application has been filed with the Commission and is available for public inspection:

a. Type of Application: Request for a Temporary Variance from Reservoir Level Requirements—Article 407.

b. Project No.: 1267-108.

c. Date Filed: August 14, 2015.

d. Applicant: Greenwood County, South Carolina (licensee).

e. Name of Project: Buzzards Roost Hydroelectric Project.

f. Location: Greenwood, Laurens, and Newberry counties, South Carolina.

g. Filed Pursuant to: Federal Power Act, 16 U.S.C. 791(a)-825(r).

h. Applicant Contact: Toby Chappell, County Manager, (864) 942-8596, or tchappell@greenwoodsc.gov.

i. FERC Contact: Joy Kurtz, (202) 502-6760, or joy.kurtz@ferc.gov.

j. Deadline for filing comments, motions to intervene, protests, and recommendations is 30 days from the issuance date of this notice by the Commission.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-1267-108) on any comments, motions, or recommendations filed.

k. Description of Request: The licensee requests a temporary variance from the requirements of license Article 407, which requires the licensee to maintain water levels in Lake Greenwood (i.e. reservoir) in accordance with the 1994 rule curve. Specifically, Article 407, as amended in 2010, requires the licensee to maintain a reservoir elevation of 439 feet mean sea level (msl) between April 15 and November 1, and then gradually descend to 437 feet msl from November 1 to December 1, and then to 434.5 feet msl between December 1 and January 15, where it shall remain until January 31. Finally, between February 1 and April 15, the licensee must gradually increase the reservoir level from 434.5 to 439 feet msl. The licensee indicates that, as a result of ongoing drought conditions throughout the watershed, it cannot simultaneously maintain the reservoir level and release the minimum flows required by Article 408. Because priority must be given to provide the required minimum flow in order to protect aquatic resources downstream of the project, a temporary variance from Article 407 is needed until inflows into Lake Greenwood reach normal inflow rates, or until April 15, 2016, whichever occurs first.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to impoundment levels at the Buzzards Roost Hydroelectric Project, which is the subject of the variance. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: September 10, 2015.
Kimberly D. Bose,
Secretary.

[FR Doc. 2015-23319 Filed 9-16-15; 8:45 am]

BILLING CODE 6717-01-P